SECURITIES AND EXCHANGE COMMISSION

17 CFR Part 249

[Release No. 34-84541; File No. S7-23-15]

RIN 3235-AL66

Regulation of NMS Stock Alternative Trading Systems

AGENCY: Securities and Exchange Commission.

ACTION: Final rule; technical correction.

SUMMARY: This document makes technical corrections to a rule that was published in the Federal Register on August 7, 2018. The Commission adopted amendments to the regulatory requirements in Regulation ATS under the Securities Exchange Act of 1934 applicable to alternative trading systems (“ATSs”) that trade National Market System (“NMS”) stocks (hereinafter referred to as “NMS Stock ATSs”), which included, among other items, Form ATS-N. This document is being published to correct a citation contained in the adopted language of Part III, Item 15.a of Form ATS-N.

DATES: Effective November 13, 2018.

FOR FURTHER INFORMATION CONTACT: Tyler Raimo, Senior Special Counsel, at (202) 551-6227; Matthew Cursio, Special Counsel, at (202) 551-5748; Marsha Dixon, Special Counsel, at (202) 551-5782; Jennifer Dodd, Special Counsel, at (202) 551-5653; David Garcia, Special Counsel, at (202) 551-5681; or Megan Mitchell, Special Counsel, at (202) 551-4887; Office of Market Supervision, Division of Trading and Markets, Securities and Exchange Commission, 100 F Street NE, Washington, DC 20549-7010.

SUPPLEMENTARY INFORMATION: We are making a technical amendment to Part III, Item 15.a of Form ATS-N under 17 CFR 249.640.

List of Subjects in 17 CFR Part 249

Brokers, Reporting and recordkeeping requirements, Securities.

Statutory Authority and Text of Amendments

For the reasons set out above, title 17, chapter II of the Code of Federal Regulations is amended as follows:

PART 249—FORMS, SECURITIES EXCHANGE ACT OF 1934

1. The authority citation for part 249 continues to read in part as follows:

Authority: 15 U.S.C. 78a et seq. and 7201 et seq.; 12 U.S.C. 5461 et seq.; 18 U.S.C. 1350; Sec. 953(b), Pub. L. 111-203, 124 Stat. 1904; Sec. 102(a)(3), Pub. L. 112-106, 126 Stat. 309 (2012); Sec. 107, Pub. L. 112-106, 126 Stat. 313 (2012), and Sec. 72001, Pub. L. 114-94, 129 Stat. 1312 (2015), unless otherwise noted.

* * * * *

2. Amend Form ATS-N (referenced in § 249.640) by revising Part III, Item 15.a to read as follows:

Note: The text of Form ATS-N does not, and this amendment will not, appear in the Code of Federal Regulations.

Form ATS-N

* * * * *

Item 15: Display

a. Does the NMS Stock ATS operate as an Electronic Communication Network as defined in Rule 600(b)(23) of Regulation NMS?

Yes ☐ No ☐

* * * * *

Dated: November 6, 2018.
Eduardo A. Aleman,
Assistant Secretary.

[FR Doc. 2018-24549 Filed 11-9-18; 8:45 am]

BILLING CODE 8011-01-P